DEPARTMENT OF COMMERCE

International Trade Administration

[A-423-808]

Stainless Steel Plate in Coils From Belgium: Extension of Time Limit for Preliminary Results of Antidumping Duty Administrative Review

AGENCY: Import Administration, International Trade Administration, Department of Commerce.

ACTION: Notice of extension of time limit for preliminary results of administrative review.

EFFECTIVE DATE: December 17, 2001.

FOR FURTHER INFORMATION CONTACT: Sally C. Gannon at (202) 482-0162, Abdelali Elouaradia at (202) 482-1374, or Julio Fernandez at (202) 482-0190, AD/CVD Enforcement, Import Administration, International Trade Administration, U.S. Department of Commerce, 14th Street and Constitution Avenue, NW., Washington DC 20230.

The Applicable Statute

Unless otherwise indicated, all citations to the statute are references to the Tariff Act of 1930 (the Act), as amended. In addition, unless otherwise indicated, all citations to the Department's regulations are to the regulations codified at 19 CFR part 351 (2001).

Background

The Department of Commerce (the Department) received a request from ALZ N.V. (ALZ) and TrefilARBED, Inc., and from petitioners, on May 16, 2001, and May 31, 2001, respectively, for an administrative review of the antidumping duty order on stainless steel plate in coils from Belgium. On June 19, 2001, the Department published a notice of initiation of this administrative review covering the period of May 1, 2000 through April 30, 2001 (66 FR 32934).

Extension of Time Limits for Preliminary Results

Pursuant to section 751(a)(3)(A) of the Act, the Department shall make a preliminary determination in an administrative review of an antidumping duty order within 245 days after the last day of the anniversary month of the date of publication of the order. The Act further provides, however, that the Department may extend that 245-day period to 365 days if it determines it is not practicable to complete the review within the foregoing time period.

In light of the complexity of analyzing ALZ's cost reconciliation, it is not practicable to complete this review by the current deadline of January 31, 2002.

Therefore, in accordance with section 751(a)(3)(A) of the Act, the Department is extending the time limit for the preliminary results by 120 days, until no later than May 31, 2002. The final results continue to be due 120 days after the publication of the preliminary results.

Dated: December 10, 2001.
Joseph A. Spetrini,
Deputy Assistant Secretary for Import Administration, Group III.

[FR Doc. 01-31019 Filed 12-14-01; 8:45 am]

BILLING CODE 3510-DS-P